DEPARTMENT OF HOUSING AND URBAN DEVELOPMENT

[Docket No. FR-5415-N-21]

Notice of Availability: Notice of Funding Availability (NOFA) for HUD's Fiscal Year (FY) 2010 Capital Fund Education and Training Community Facilities (CFCF) Program

AGENCY: Office of the Chief of the Human Capital Officer, HUD.

ACTION: Notice.

SUMMARY: HUD announces the availability on its Web site of the applicant information, submission deadlines, funding criteria, and other requirements for the FY2010 Capital Fund Education and Training Community Facilities (CFCF) Program. Approximately $35 million is made available through the CFCF NOFA, by the Consolidated Appropriations Act, 2010 (Pub. L. 111-117, approved December 16, 2009). The CFCF NOFA provides capital funding to Public Housing Agencies (PHAs) for the construction, rehabilitation, or purchase of facilities to provide early childhood education, adult education, and job training programs for public housing residents based on an identified need. PHAs may use CFCF program funding to rehabilitate existing community facilities that will offer comprehensive, integrated services. These facilities will offer services to help public housing residents achieve better educational and economic outcomes resulting in long-term economic self-sufficiency.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Capital Fund Education and Training Community Facilities (CFCF) Program is 14-890. Applications must be submitted electronically through Grants.gov.

FOR FURTHER INFORMATION CONTACT: Questions regarding the FY2010 Capital Fund Education and Training Community Facilities (CFCF) Program NOFA should be directed to Alan Kaufmann, Public Housing Revitalization Specialist, Office of Public and Indian Housing, Department of Housing and Urban Development, at telephone number 202-402-4126. You may also submit questions by e-mail to PIHOCI@hud.gov. Questions regarding the 2010 General Section should be directed to the Office of Grants Management and Oversight at 202-708-0667 or the NOFA Information Center at 800-HUD-8929 (toll free). Persons with hearing or speech impairments may access these numbers via TTY by calling the Federal Information Relay Service at 800-877-8339.

Dated: October 13, 2010.
Barbara S. Dorf,
Director, Office of Departmental Grants Management and Oversight, Office of the Chief of the Human Capital Officer.

[FR Doc. 2010-26199 Filed 10-15-10; 8:45 am]

BILLING CODE 4210-67-P